DEPARTMENT OF LABOR

Employment and Training Administration

[TA-W-38,897]

J.E. Morgan Knitting Mills, Inc. Tamaqua, Pennsylvania; Amended Certification Regarding Eligibility To Apply for Worker Adjustment Assistance

In accordance with section 223 of the Trade Act of 1974 (19 USC 2273) the Department of Labor issued a Notice of Certification Regarding Eligibility to Apply for Worker Adjustment Assistance on May 3, 2001, applicable to workers of J.E. Morgan Knitting Mills, Inc., Tamaqua, Pennsylvania. The notice was published in the Federal Register on May 18, 2001 (FR 66 27691).

At the request of the State agency, the Department reviewed the certification for workers of the subject firm. The workers are engaged in the production of thermal underwear for men, women and children and baby blankets. New findings show that there was a previous certification TA-W-35,209B, issued on February 22, 1999, for workers of J.E. Morgan Knitting Mills, Inc., Tamaqua, Pennsylvania who were engaged in employment related to the production of thermal underwear for men, women and children and baby blankets. That certification expired February 22, 2001. To avoid an overlap in worker group coverage, the certification is being amended to change the impact date from March 7, 2000 to February 23, 2001, for workers of the subject firm.

The amended notice applicable to TA-W-38, 897 is hereby issued as follows:

All workers of J.E. Morgan Knitting Mills, Inc., Tamaqua, Pennsylvania who became totally or partially separated from employment on or after February 23, 2001 through May 3, 2003 are eligible to apply for adjustment assistance under Section 223 of the Trade Act of 1974.

Signed at Washington, DC this 12th day of June, 2001.
Edward A. Tomchick,
Director, Division of Trade Adjustment Assistance.

[FR Doc. 01-16150 Filed 6-26-01; 8:45 am]

BILLING CODE 4510-30-M